FEDERAL RESERVE SYSTEM

[Docket No. R-1072]

Privacy Act of 1974; Notice of New System of Records

AGENCY: Board of Governors of the Federal Reserve System.

ACTION: Notice of new system of records; correction.

SUMMARY: In accordance with the Privacy Act, the Board of Governors of the Federal Reserve System (Board) is adopting in final a recently published new system of records, entitled Multi-rater Feedback Records (BGFRS-25). One minor revision has been made to the initial notice, which was published on May 30, 2000.

DATES: This correction is effective June 28, 2000.

FOR FURTHER INFORMATION CONTACT: Elaine M. Boutilier, Managing Senior Counsel, Legal Division (202/452-2418), or Chris Fields, Manager, Human Resources Function, Management Division (202/452-3654), Board of Governors of the Federal Reserve System, 20th and Constitution, NW., Washington, DC 20551.

SUPPLEMENTARY INFORMATION:

Background

On May 30, 2000, the Board published a notice of a new system of records entitled Multi-rater Feedback Records (65 FR 34471). Comments on the proposed system of records were requested, and the notice stated that the new system of records would become effective on June 28, 2000, without further action, unless the Board published a notice to the contrary.

Need for Correction

In the Federal Register of May 30, 2000, in FR Doc. 00-13126, on page 34472, in the second column remove routine use “h,” and redesignate routine uses “i” and “j” as “h” and “i”, respectively. Otherwise, the system of records remains as proposed and will become effective on June 28, 2000, as stated in the earlier notice.

Because this is a minor change, no reports are required to be filed with the Chair of the House Committee on Government Reform and Oversight, the Chair of the Senate Committee on Governmental Affairs, or the Office of Management and Budget.

By order of the Board of Governors of the Federal Reserve System, acting through the Secretary of the Board under delegated authority, June 8, 2000.
Jennifer J. Johnson,
Secretary of the Board.

[FR Doc. 00-14934 Filed 6-3-00; 8:45 am]

BILLING CODE 6210-01-P